FEDERAL COMMUNICATIONS COMMISSION

[CC Docket No. 99-216; DA 01-1485]

The Commission Will No Longer Accept Applications for Certification and Petitions for Waiver of Technical Criteria

AGENCY: Federal Communications Commission.

ACTION: Notice.

SUMMARY: On June 22, 2001, the Commission released a public notice announcing that after July 23, 2001, the Commission will no longer accept applications for certification of terminal equipment and petitions for waiver of technical criteria. The intended effect of this action is to make the public aware of the changes to the rules.

FOR FURTHER INFORMATION CONTACT: Bill Howden at (202) 418-2343, whowden@fee.gov or Susan Magnotti, at (202) 418-0871, smagnotti@fee.gov. The address is: Network Services Division, Common Carrier Bureau, Federal Communications Commission, The Portals, 445 12th Street, SW, Suite 6A207, Washington, DC 20554. The fax number is: (202) 418-2345. The TTY number is: (202) 418-0484.

SUPPLEMENTARY INFORMATION: Pursuant to In the Matter of 2000 Biennial Regulatory Review of Part 68 of the Commission's Rules and Regulations, CC Docket 99-216, Report and Order, FCC 00-400, 66 FR 7579 (January 24, 2001) (Order), the Commission will no longer accept applications for certification of terminal equipment under 47 CFR part 68 as of July 23, 2001. Also, petitions for waiver of the part 68 rules that were eliminated in the Order, including those pertaining to the Commission's streamlined waiver process for stutter dial tone (section 68.312(i)) and ADSL/RADSL terminal equipment (section 68.308(e)(1)), should no longer be filed with the Commission after July 23, 2001. As of July 23, 2001, parties seeking to request exceptions or interim criteria for their terminal equipment that does not meet the published technical criteria should contact the Administrative Council for Terminal Attachments (ACTA). The Commission's rules pertaining to hearing aid compatibility and volume control are not affected by this action.

The ACTA, established by the Commission in the Order, is responsible for establishing and maintaining a database of equipment found to be compliant with industry-established technical criteria, establishing numbering and labeling requirements, and establishing filing requirements for certification.

The Order requires certification of terminal equipment by one of two methods. The first method, which is currently available to applicants, is certification by a Telecommunication Certification Body (TCB). Once ACTA establishes filing requirements for TCBs and so notifies them, TCBs must send their certificates to ACTA's designated receiver. Until that time, TCBs may continue to send their certificates to the Commission.

Once ACTA establishes the supporting database, numbering and labeling requirements, and data filing requirements, the second method, self-declaration of conformity (SDoC) certification, will be available to terminal equipment suppliers. At that time, suppliers declaring conformity may send required data to ACTA's designated receiver. Parties seeking information on the SDoC certification method may contact Tim Jeffries, (202) 662-8669, email: tjeffries@atis.org.

Federal Communications Commission.
Diane Griffin Harmon,
Deputy Chief, Network Services Division, Common Carrier Bureau.

[FR Doc. 01-16652 Filed 7-2-01; 8:45 am]

BILLING CODE 6712-01-P